DEPARTMENT OF EDUCATION

Applications for New Awards; Transitioning Gang-Involved Youth to Higher Education Program

AGENCY: Office of Postsecondary Education, Department of Education.

ACTION: Notice.

SUMMARY: The Department of Education (Department) is issuing a notice inviting applications (NIA) for fiscal year (FY) 2021 for the Transitioning Gang-Involved Youth to Higher Education Program, Assistance Listing Number 84.116Y. This notice relates to the approved information collection under OMB control number 1894-0006.

DATES: Applications available: October 29, 2021.

Deadline for transmittal of applications: November 29, 2021.

ADDRESSES: For the addresses for obtaining and submitting an application, please refer to our Common Instructions for Applicants to Department of Education Discretionary Grant Programs, published in the Federal Register on February 13, 2019 (84 FR 3768), and available at www.govinfo.gov/content/pkg/FR-2019-02-13/pdf/2019-02206.pdf.

FOR FURTHER INFORMATION CONTACT: Jymece Seward, U.S. Department of Education, 400 Maryland Avenue SW, Room 2B159, Washington, DC 20202-4260. Telephone: (202) 453-6138. Email: Jymece.Seward@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The purpose of this program is to provide gang-involved youth with postsecondary education opportunities that will lead to certification or credentials. Such programs can include apprenticeships or other workforce preparation programs that promote job readiness upon completion of the program, while simultaneously providing essential wrap-around services that include culturally competent social and emotional support.

Background: Recent research indicates that more than one million youth are estimated to be involved in some type of gang, crew, or other group.¹ Interviews with gang-involved youth who had ultimately enrolled in community colleges reported that low expectations and negative stereotypes were part of their schooling experience.² According to the research, gang-associated youth are 30 percent less likely to complete high school compared with their non-gang peers.³ Accordingly, through this grant opportunity, the Department seeks to improve access to postsecondary education and outcomes for gang-involved youth.

¹ Pyrooz, D. and Sweeten, G. (2015). Gang Membership Between Ages 5 and 17 Years in the United States. Journal of Adolescent Health, 1-6.

² Gardenhire-Crooks, A., Collado, H., Martin, K., & Castro, A. (2010). Terms of engagement: Men of color discuss their experiences in community college. Oakland, CA: MDRC. Retrieved from: http://files.eric.ed.gov/fulltext/ED508982.pdf.

³ Pyrooz, D.C. (2014). From Colors and Guns to Caps and Gowns? The effect of gang membership on educational attainment. Journal of Research in Crime and Delinquency 51(1), 56-87.

The intent of this program is to support community colleges, in partnership with other organizations that are best prepared to provide the supports and services necessary, that will enable these youth, including youth with disabilities, to transition into postsecondary programs that will allow them to pursue a certificate, degree, or other credential. Community colleges serve as affordable, learning- and skills-based higher education providers, especially for non-traditional students.⁴ In addition, community colleges have been innovative in partnering with community-based organizations that support the success of low-income students and students with family responsibilities, including improving access, persistence, and academic progress and employing strategies that more effectively link training to work opportunities and employment.⁵

⁴ Mintz, S. (March 2019). Community Colleges and the Future of Higher Education. Inside Higher Ed. www.insidehighered.com/blogs/higher-ed-gamma/community-colleges-and-future-higher-education.

⁵ The Aspen Institute. 2021. Role of Community Colleges. www.aspeninstitute.org/programs/workforce-strategies-initiative/role-community-college/.

Youth who are gang-involved may benefit from holistic support systems through which their schools provide culturally competent social and emotional support, their families are included in their educational efforts, and they receive employment and resources and support for accessing financial assistance.⁶ Because prior research has suggested that stable employment can reduce criminal conduct, this program encourages applicants to collaborate with other organizations to build and support pathways to education and careers for gang-involved youth.⁷

⁶ Sharkey, J. (2015). How to Help Me Get Out of a Gang: Youth Recommendations to Family, School, Community, and Law Enforcement Systems. Research Gate, 64-100.

⁷ Laub, J.H., and R.J. Sampson. 2001. Understanding desistance from crime. Crime and Justice 28: 1-69. Retrieved from https://dash.harvard.edu/handle/1/3226958.

Priorities: This notice contains one absolute priority and one competitive preference priority.

We are establishing these priorities for the FY 2021 grant competition and any subsequent year in which we make awards from the list of unfunded applications from this competition, in accordance with section 437(d)(1) of the General Education Provisions Act (GEPA), 20 U.S.C. 1232(d)(1).

Absolute Priority: This priority is an absolute priority. Under 34 CFR 75.105(c)(3), we consider only applications that meet this priority.

This priority is:

Projects that propose partnerships between community colleges and public or private nonprofit organizations, community-based organizations (CBOs), industry partners, or other entities with a demonstrated record of working successfully with youth who are gang-involved to leverage services to support students in acquiring the knowledge, skills, and abilities to transition into an education beyond high school.

To be eligible for this program, community colleges must include the participation of their workforce or career services offices to assist with career placement services and developmental academic coursework for program participants. This may include working through their Workforce Development and Continuing Education divisions or other offices, as appropriate.

Competitive Preference Priority: This priority is a competitive preference priority. Under 34 CFR 75.105(c)(2)(i), we award up to an additional 15 points to an application, depending on how well the application meets the priority. Applicants are not required to respond to the priority.

This priority is:

Creating a Positive, Inclusive, and Identity-safe Climate (up to 15 points).

Projects that are designed to improve the social, emotional, academic, and career development of youth who are gang-involved, by creating a positive, inclusive, and identity-safe climate through one or more of the following activities:

(1) Fostering a sense of belonging and inclusion for students who are gang-involved. (up to 5 points)

(2) Implementing evidence-based practices for advancing student success for students who are gang-involved. (up to 5 points)

(3) Providing high-quality professional development opportunities designed to reduce bias and build asset-based mindsets for faculty and staff on campus, to include programing for students, faculty, and staff that addresses actionable inclusion efforts with respect to racial, ethnic, cultural, linguistic, disability, age, and gender characteristics. (up to 5 points)

Definitions: We are establishing definitions for “community-based organization” and “community college” for the FY 2021 grant competition and any subsequent year in which we make awards from the list of unfunded applications from this competition, in accordance with section 437(d)(1) of GEPA. The Fund for the Improvement of Postsecondary Education (FIPSE) does not have specific programmatic definitions; we believe the definitions established here for “community-based organization” and “community college” best capture the intended purpose of this program. The definition of “institution of higher education” is from the Higher Education Act of 1965, as amended (HEA) (20 U.S.C. 1001). All other definitions are from 34 CFR 77.1.

Community-based organization means a private nonprofit organization (which may include a faith-based organization), that is representative of a community or a significant segment of a community.

Community college means an institution that meets the definition in section 312(f) of the HEA (20 U.S.C. 1058(f)) or an institution of higher education that awards degrees and certificates, more than 50 percent of which are not bachelor's degrees (or an equivalent) or master's, professional, or other advanced degrees.

Demonstrates a rationale means a key project component included in the project's logic model is informed by research or evaluation findings that suggest the project component is likely to improve relevant outcomes.

Evidence-based means the proposed project component is supported by evidence that demonstrates a rationale.

Institution of higher education means (a) an educational institution in any State that—(1) admits as regular students only persons having a certificate of graduation from a school providing secondary education, or the recognized equivalent of such a certificate, or persons who meet the requirements of section 1091(d) of the HEA;

(2) is legally authorized within such State to provide a program of education beyond secondary education;

(3) provides an educational program for which the institution awards a bachelor's degree or provides not less than a 2-year program that is acceptable for full credit toward such a degree, or awards a degree that is acceptable for admission to a graduate or professional degree program, subject to review and approval by the Secretary;

(4) is a public or other nonprofit institution; and

(5) is accredited by a nationally recognized accrediting agency or association, or if not so accredited, is an institution that has been granted pre-accreditation status by such an agency or association that has been recognized by the Secretary for the granting of pre-accreditation status, and the Secretary has determined that there is satisfactory assurance that the institution will meet the accreditation standards of such an agency or association within a reasonable time.

(b) The term “institution of higher education” also includes—

(1) Any school that provides not less than a 1-year program of training to prepare students for gainful employment in a recognized occupation and that meets the provision of paragraphs (a)(1), (2), (4), and (5); and

(2) A public or nonprofit private educational institution in any State that, in lieu of the requirement in paragraph (a)(1), admits as regular students individuals—

(A) Who are beyond the age of compulsory school attendance in the State in which the institution is located; or

(B) Who will be dually or concurrently enrolled in the institution and a secondary school.

Logic model (also referred to as a theory of action) means a framework that identifies key project components of the proposed project (i.e., the active “ingredients” that are hypothesized to be critical to achieving the relevant outcomes) and describes the theoretical and operational relationships among the key project components and relevant outcomes.

Note: In developing logic models, applicants may want to use resources such as the Regional Educational Laboratory Program's (REL Pacific) Education Logic Model Application, available at https://ies.ed.gov/ncee/edlabs/regions/pacific/elm.asp. Other sources include: https://ies.ed.gov/ncee/edlabs/regions/pacific/pdf/REL_2014025.pdf, https://ies.ed.gov/ncee/edlabs/regions/pacific/pdf/REL_2014007.pdf, and https://ies.ed.gov/ncee/edlabs/regions/northeast/pdf/REL_2015057.pdf.

Project component means an activity, strategy, intervention, process, product, practice, or policy included in a project. Evidence may pertain to an individual project component or to a combination of project components (e.g., training teachers on instructional practices for English learners and follow-on coaching for these teachers).

Relevant outcome means the student outcome(s) or other outcome(s) the key project component is designed to improve, consistent with the specific goals of the program.

Waiver of Proposed Rulemaking: Under the Administrative Procedure Act (5 U.S.C. 553), the Department generally offers interested parties the opportunity to comment on proposed priorities, selection criteria, definitions, and other requirements. Section 437(d)(1) of GEPA, however, allows the Secretary to exempt from rulemaking requirements regulations governing the first grant competition under a new or substantially revised program authority. This is the first grant competition for this program, and therefore qualifies for this exemption. In order to ensure timely grant awards, the Secretary has decided to forgo public comment on the priorities, requirements, and definitions, under section 437(d)(1) of GEPA.

Program Authority: 20 U.S.C. 1138-1138d; Departments of Labor, Health and Human Services, and Education and Related Agencies Appropriations Act, 2021, H.R. 7614, 116th Congress (2020); the explanatory statement accompanying H.R. 133 (Pub. L. 116-260).

Note: Projects will be awarded and must be operated in a manner consistent with the nondiscrimination requirements contained in the Federal civil rights laws.

Applicable Regulations: (a) The Education Department General Administrative Regulations in 34 CFR parts 75, 77, 79, 82, 84, 86, 97, 98, and 99. (b) The Office of Management and Budget Guidelines to Agencies on Governmentwide Debarment and suspension (Nonprocurement) in 2 CFR part 180, as adopted and amended as regulations of the Department in 2 CFR part 3485. (c) The Uniform Administrative Requirements, Cost Principles, and Audit Requirements for Federal Awards in 2 CFR part 200, as adopted and amended in 2 CFR part 3474.

II. Award Information

Type of Award: Discretionary grant.

Estimated Available Funds: $990,000.

Contingent upon the availability of funds and the quality of applications, we may make additional awards in subsequent years from the list of unfunded applications from this competition.

Maximum Award: $990,000 for a single budget period of 36 months.

Estimated Number of Awards: 1.

Note: The Department is not bound by any estimates in this notice.

Project Period: Up to 36 months.

III. Eligibility Information

1. Eligible Applicants: Community colleges (as defined in this notice).

2. a. Cost Sharing or Matching: This competition does not require cost sharing or matching.

b. Supplement-Not-Supplant: This competition involves supplement-not-supplant funding requirements. This program uses the waiver authority of section 437(d)(1) of GEPA to establish this as a supplement-not-supplant program. Grant funds must be used so that they supplement and, to the extent practical, increase the funds that would otherwise be available for the activities to be carried out under the grant and in no case supplant those funds.

c. Indirect Cost Rate Information: This program uses the waiver authority of section 437(d)(1) of GEPA to limit a grantee's indirect cost reimbursement to eight percent (8%) of a modified total direct cost base. For more information regarding indirect costs, or to obtain a negotiated indirect cost rate, please see www2.ed.gov/about/offices/list/ocfo/intro.html.

d. Administrative Cost Limitation: This program does not include any program-specific limitation on administrative expenses. All administrative expenses must be reasonable and necessary and conform to Cost Principles described in 2 CFR part 200 subpart E of the Uniform Guidance.

3. Subgrantees: A grantee under this competition may award subgrants to entities to directly carry out project activities described in its application.

IV. Application and Submission Information

1. Application Submission Instructions: Applicants are required to follow the Common Instructions for Applicants to Department of Education Discretionary Grant Programs, published in the Federal Register on February 13, 2019 (84 FR 3768), and available at www.govinfo.gov/content/pkg/FR-2019-02-13/pdf/2019-02206.pdf, which contains requirements and information on how to submit an application.

2. Intergovernmental Review: This program is subject to Executive Order 12372 and the regulations in 34 CFR part 79. However, under 34 CFR 79(a), we waived Intergovernmental Review in order to make awards by December 31, 2021.

3. Funding Restrictions: We reference regulations outlining funding restrictions in the Applicable Regulations section of this notice.

4. Recommended Page Limit: The application narrative is where you, the applicant, address the selection criteria that reviewers use to evaluate your application. We recommend that you (1) limit the application narrative to no more than 50 pages and (2) use the following standards:

• A “page” is 8.5″ x 11″, on one side only, with 1″ margins at the top, bottom, and both sides.

• Double space (no more than three lines per vertical inch) all text in the application narrative, including titles, headings, footnotes, quotations, references, and captions as well as all text in charts, tables, figures, and graphs.

• Use a font that is either 12 point or larger, and no smaller than 10 pitch (characters per inch).

• Use one of the following fonts: Times New Roman, Courier, Courier New, or Arial.

The recommended page limit does not apply to the cover sheet; the budget section, including the narrative budget justification; the assurances and certifications; or the one-page abstract. However, the recommended page limit does apply to all of the application narrative.

Note: The Budget Information-Non-Construction Programs Form (ED 524) Sections A-C are not the same as the narrative response to the Budget section of the selection criteria.

V. Application Review Information

1. Selection Criteria: The following selection criteria for this program are from 34 CFR 75.210.

The points assigned to each criterion are indicated in the parentheses next to the criterion. An applicant may earn up to a total of 100 points based on the selection criteria and up to 15 additional points under the competitive preference priority, for a total score of up to 115 points. All applications will be evaluated based on the selection criteria as follows:

(a) Quality of the project design. (Maximum 30 points) The Secretary considers the quality of the design of the proposed project. In determining the quality of the design of the proposed project, the Secretary considers the following factors:

(i) The extent to which the proposed project demonstrates a rationale (up to 10 points).

(ii) The extent to which the design of the proposed project is appropriate to, and will successfully address, the needs of the target population or other identified needs (up to 10 points).

(iii) The extent to which the proposed project will establish linkages with other appropriate agencies and organizations providing services to the target population (up to 10 points).

(b) Quality of project services. (Maximum 30 points) The Secretary considers the quality of the services to be provided by the proposed project.

(i) In determining the quality of the services to be provided by the proposed project, the Secretary considers the quality and sufficiency of strategies for ensuring equal access and treatment for eligible project participants who are members of groups that have traditionally been underrepresented based on race, color, national origin, gender, age, or disability (up to 5 points).

(ii) In addition, the Secretary considers the following factors:

(A) The extent to which the services to be provided by the proposed project are appropriate to the needs of the intended recipients or beneficiaries of those services (up to 10 points).

(B) The likely impact of the services to be provided by the proposed project on the intended recipients of those services (up to 10 points).

(C) The extent to which the services to be provided by the proposed project involve the collaboration of appropriate partners for maximizing the effectiveness of project services (up to 5 points).

(c) Quality of project personnel. (Maximum 20 points) The Secretary considers the quality of the personnel who will carry out the proposed project.

(i) In determining the quality of project personnel, the Secretary considers the extent to which the applicant encourages applications for employment from persons who are members of groups that have traditionally been underrepresented based on race, color, national origin, gender, age, or disability (up to 7 points).

(ii) In addition, the Secretary considers the following factors:

(A) The qualifications, including relevant training and experience, of the project director or principal investigator (up to 7 points).

(B) The qualifications, including relevant training and experience, of key project personnel (up to 6 points).

(d) Quality of the management plan. (Maximum 10 points) The Secretary considers the quality of the management plan for the proposed project. In determining the quality of the management plan, the Secretary considers the following factors:

(i) The adequacy of the management plan to achieve the objectives of the proposed project on time and within budget, including clearly defined responsibilities, timelines, and milestones for accomplishing project tasks (up to 5 points).

(ii) How the applicant will ensure that a diversity of perspectives is brought to bear in the operation of the proposed project, including those of parents, teachers, the business community, a variety of disciplinary and professional fields, recipients or beneficiaries of services, or others, as appropriate (up to 5 points).

(e) Quality of the project evaluation. (Maximum 10 points) The Secretary considers the quality of the evaluation to be conducted of the proposed project. In determining the quality of the evaluation, the Secretary considers the following factors:

(i) The extent to which the goals, objectives, and outcomes to be achieved by the proposed project are clearly specified and measurable (up to 5 points).

(ii) The extent to which the methods of evaluation are thorough, feasible, and appropriate to the goals, objectives, and outcomes of the proposed project (up to 5 points).

2. Review and Selection Process: Potential applicants are reminded that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances including those applicable to Federal civil rights laws that prohibit discrimination in programs or activities receiving Federal financial assistance from the Department of Education (34 CFR 100.4, 104.5, 106.4, 108.8, and 110.23).

A panel of up to three non-Federal reviewers will review and score each application in accordance with the selection criteria and the competitive preference priorities. A rank order funding slate will be made from this review. Awards will be made in rank order according to the average score received from the peer review.

Tie-breaker: If there is more than one application with the same score and insufficient funds to fund all the applications with the same ranking, the applicant with the highest percentage of students who are Pell grant recipients will be funded.

3. Risk Assessment and Specific Conditions: Consistent with 2 CFR 200.206, before awarding grants under this competition the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with—

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements, please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: Under the Government Performance and Results Act of 1993 and 34 CFR 75.110, the following three performance measures will be used in assessing the performance of the Transitioning Gang-Involved Youth to Higher Education program:

1. Number of project participants enrolled in the postsecondary education program.

2. Number of project participants earning a certificate, degree, or other credential.

3. Number of project participants active in paid internships, apprenticeships, or other work experiences.

These measures constitute the Department's indicators of success for this program. Consequently, we advise an applicant for an award under this program to give careful consideration to the operationalization of the measures in conceptualizing the approach and evaluation for its proposed project.

If funded, you will be required to collect and report data in your project's annual performance report (34 CFR 75.590).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Michelle Asha Cooper,
Acting Assistant Secretary for Postsecondary Education.

[FR Doc. 2021-23788 Filed 10-28-21; 8:45 am]

BILLING CODE 4000-01-P